DEPARTMENT OF VETERANS AFFAIRS

[OMB Control No. 2900-0017]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before September 18, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0017.”

SUPPLEMENTARY INFORMATION: Titles and Form Numbers:

a. Court Appointed Fiduciary's Account (legal size), VA Form 21-4706.

b. Federal Fiduciary's Account, VA Form 21-4706b.

c. Court Appointed Fiduciary's Account, VA Form 21-4706c.

d. Account Book, VA Form 21-4718.

OMB Control Number: 2900-0017.

Type of Review: Reinstatement, with change, of a previously approved collection for which approval has expired.

Abstract: The information is used to audit accounts of fiduciaries and monitor estate supervision issues to include the need for suspension of benefits when warranted.

An agency may not conduct or sponsor, and a person is not required to respond to a collection of information unless it displays a currently valid OMB control number. The Federal Register Notice with a 60-day comment period soliciting comments on this collection of information was published December 2, 1999 at pages 67626-67627.

Affected Public: Individuals or households, Business or other for-profit, Not-for-profit institutions, State, Local or Tribal Government.

Estimated Annual Burden:

a. VA Form 21-4706—2,628 hours.

b. VA Form 21-4706b—3,933 hours.

c. VA Form 21-4706c—2,808 hours.

d. VA Form 21-4718—13,140 hours.

Estimated Average Burden Per Respondent:

a. VA Form 21-4706—30 minutes.

b. VA Form 21-4706b—27 minutes.

c. VA Form 21-4706c—30 minutes.

d. VA Form 21-4718—2 hours and 30 minutes.

Frequency of Response: Once annually.

Estimated Number of Respondents:

a. VA Form 21-4706—5,256.

b. VA Form 21-4706b—8,740.

c. VA Form 21-4706c—5,616.

d. VA Form 21-4718—5,256.

Send comments and recommendations concerning any aspect of the information collection to VA's OMB Desk Officer, Allison Eydt, OMB Human Resources and Housing Branch, New Executive Office Building, Room 10235, Washington, DC 20503 (202) 395-4650. Please refer to “OMB Control No. 2900-0017” in any correspondence.

Dated: July 21, 2000.
By direction of the Secretary.
Sandra McIntyre,
Management Analyst, Information Management Service.

[FR Doc. 00-20858 Filed 8-16-00; 8:45 am]

BILLING CODE 8320-01-P